NATIONAL SCIENCE FOUNDATION

Advisory Committee for Biological Sciences; Notice of Meeting

In accordance with the Federal Advisory Committee Act (Pub. L. 92-463, as amended), the National Science Foundation announces the following meeting:

Name: Advisory Committee for Biological Sciences (#1110).

Date and Time: October 6, 2010; 8:30 a.m. to 5 p.m.

October 7, 2010; 8:30 a.m. to 5 p.m.

Place: Hotel Boulderado, 2115 13th Street, Boulder, CO 80302.

Type of Meeting: Open.

Contact Person: Chuck Liarakos, National Science Foundation, Room 605, 4201 Wilson Boulevard, Arlington, VA 22230 Tel No.: (703) 292-8400.

Purpose of Meeting: The Advisory Committee for BIO provides advice, recommendations, and oversight concerning major program emphases, directions, and goals for the research-related activities of the divisions that make up BIO.

AGENDA

October 6, 2010

AM: Introductions and Updates; Presentation and Discussion—Innovation Experiments; Research Resources.

PM: Presentation and Discussion—Science, Arts and Humanities Symposium; COV Reports; COV Updates; New Ideas; Recognition of Departing BIO AC Members.

October 7, 2010

National Ecological Observatory Network, Inc.: NEON Overview and Status, Discussion and Presentation; Tours of NEON Technical Facility and Table Mountain Prototype Site.

Dated: September 8, 2010.
Susanne Bolton,
Committee Management Officer.

[FR Doc. 2010-22697 Filed 9-10-10; 8:45 am]

BILLING CODE 7555-01-P